DEPARTMENT OF TRANSPORTATION

National Highway Traffic Safety Administration

[Docket No. NHTSA-2012-0110; Notice 2]

Ford Motor Company, Grant of Petition for Decision of Inconsequential Noncompliance

AGENCY: National Highway Traffic Safety Administration (NHTSA), Department of Transportation (DOT).

ACTION: Grant of Petition.

SUMMARY: Ford Motor Company (Ford) has determined that certain model year 2009-2012 Ford F-650 and F-750 trucks manufactured from April 14, 2008, through May 1, 2012 do not fully comply with paragraph S5.3.2(a) of Federal Motor Vehicle Safety Standard (FMVSS) No. 105, Hydraulic and Electric Brake Systems. Ford has filed an appropriate report dated July 2, 2012 pursuant to 49 CFR part 573 Defect and Noncompliance Responsibility and Reports.

ADDRESSES: For further information on this decision contact Stuart Seigel, Office of Vehicle Safety Compliance, the National Highway Traffic Safety Administration (NHTSA), telephone (202) 366-5287, facsimile (202) 366-7002.

SUPPLEMENTARY INFORMATION:

I. Ford's Petition

Pursuant to 49 U.S.C. 30118(d) and 30120(h) and the rule implementing those provisions at 49 CFR part 556, Ford has petitioned for an exemption from the notification and remedy requirements of 49 U.S.C. Chapter 301 on the basis that this noncompliance is inconsequential to motor vehicle safety.

On February 21, 2014 Ford supplemented its original petition of July 23, 2012, by updating the number of affected vehicles and their dates of manufacture, and including additional justification for a decision of inconsequential noncompliance.

Notice of receipt of the July 23, 2012 petition was published, with a 30-day public comment period, on January 25, 2013 in the Federal Register (78 FR 5560). No comments were received. To view the petition and all supporting documents log onto the Federal Docket Management System (FDMS) Web site at: http://www.regulations.gov/. Then follow the online search instructions to locate docket number “NHTSA-2012-0110.”

II. Vehicles Involved

Affected are approximately 7,393 model year 2009-2012 Ford F-650 and F-750 trucks that were manufactured from April 14, 2008, through May 1, 2012.

III. Noncompliance

Ford explains that the noncompliance is that the subject vehicles do not illuminate the parking brake telltale lamp when the ignition switch is in the “on” or “start” positions as required by FMVSS No. 105.

IV. Rule Text

Paragraph S5.3.2(a) of FMVSS No. 105 requires: Except as provided in paragraph (b) of this section, all indicator lamps shall be activated as a check of lamp function either when the ignition (start) switch is turned to the “on” (run) position when the engine is not running, or when the ignition (start) switch is in a position between “on” (run) and “start” that is designated by the manufacturer as a check position.

V. Summary of Ford's Analyses

Ford stated its belief that although the affected vehicles do not illuminate the parking brake telltale lamp when the ignition start switch is in the “on” or “start” positions that the condition is inconsequential to motor vehicle safety for the following reasons:

1. The parking brake telltale lamp functions as intended—only the telltale bulb check at start-up is not illuminated—unless the parking brake is applied.

2. Unlike most other telltales, the parking brake telltale will simultaneously illuminate when the customer applies the handbrake—essentially functioning as a bulb check. And, if the lamp does not illuminate when the handbrake is applied, the customer is able to identify the condition.

3. If customers inadvertently operate the vehicle with the parking brake applied, the service brakes will not be affected because the design of the subject vehicles utilizes a separate, dedicated parking brake mounted on the driveshaft. Additionally, inadvertent application of the parking brake will result in poor vehicle acceleration and “drag” providing further indications that the parking brake is engaged.

4. Instrument panel telltale bulbs are highly reliable. Engineering has reported no parking telltale bulb warranty claims for any of the affected F-650 & F-750 vehicles, from 2009 through 2012.

5. The physical position of the parking brake handle (on the tunnel) provides a readily apparent indication when the parking brake is applied. Partial parking brake applications are not a concern because the handle mechanism utilizes an over-cam locking design, which assures the parking brake is either fully applied or fully released. This design precludes a parking brake from being partially applied.

6. The 2011-2012 model year vehicles incorporate a warning chime which activates (in addition to the parking brake telltale) when the parking brake is applied and the vehicle is driven over 4 miles-per-hour.

7. The operators of these vehicles are typically professional drivers, requiring additional licensing and are familiar with the operation of these types of over-cam, driveshaft-mounted parking brakes.

Ford is also unaware of any field reports, accidents or injuries attributed to this condition.

Ford additionally indicated that changes were made in production on May 1, 2012, and that they had taken multiple steps to help ensure that the parking brake telltale “check of lamp function” issue that resulted in the non-compliance does not occur in the future, including Ford validation of the design with no planned cluster/parking brake revisions until new model updates.

In summation, Ford believes that the described noncompliance of the subject vehicles is inconsequential to motor vehicle safety, and that its petition, to exempt from providing recall notification of noncompliance as required by 49 U.S.C. 30118 and remedying the recall noncompliance as required by 49 U.S.C. 30120 should be granted.

VI. NHTSA Decision

NHTSA has reviewed Fords analyses that the subject noncompliance is inconsequential to motor vehicle safety. Specifically, the parking brake telltale is not activated as a check of lamp function either when the ignition (start) switch is turned to the “on” (run) position when the engine is not running, or when the ignition (start) switch is in a position between “on” (run) and “start” as required by Paragraph S5.3.2(a) of FMVSS No. 105.

If the parking brake telltale lamp bulb fails, the vehicle operator would not be alerted by illumination of the parking brake telltale that the vehicle's parking brake is applied. However, as the vehicle in this condition is driven, a number of indicators would provide feedback to the vehicle operator that the parking brake is applied. First, the vehicle drivability would be affected with poor acceleration and “drag.” A warning chime for the 2011-2012 model year vehicles would be activated when the vehicle is driven over 4 miles per hour. Lastly, the physical position of the parking brake handle located on the tunnel, would provide a visual indication that the parking brake is applied. The parking brake has an over-cam locking design that assures that the brake is not partially applied. The combination of the aforementioned operator feedback indicators is sufficient that in the event of a non-operative parking brake telltale light, an operator would have sufficient warning and information to take corrective action. In addition, the parking brake is mounted on the drive shaft and, therefore, separate from the service brake system. Thus, in the unlikely event that the vehicle was driven with an applied parking brake the service brake system would not be compromised thereby reducing the severity of the noncompliance.

We also note that this telltale is specific only to the application of the parking brake, and is not a combined indicator for multiple brake malfunctions. As a separate indicator, the severity of the noncompliance is further reduced as it indicates only one versus multiple brake system malfunctions.

Furthermore, each application of the parking brake activates the dedicated parking brake indicator telltale. This effectively functions as a secondary de-facto bulb check. Drivers that routinely use the parking brake in the subject vehicles will become accustomed to seeing a telltale with the word “Park” activated when setting the parking brake and are consequently likely to recognize a malfunction if this expected telltale does not illuminate.

The affected vehicles, the F-650 and F-750 trucks, are medium duty work trucks typically operated by professional drivers that are experienced with and knowledgeable of their work equipment including the operation of the over-cam, driveshaft-mounted parking brake systems. It is highly likely that even without a visual indicator, these individuals will readily determine when the parking brake is set simply by the altered feel of vehicle drivability.

In consideration of the foregoing, NHTSA has decided that Ford has met its burden of persuasion that the FMVSS No. 105 noncompliance is inconsequential to motor vehicle safety. Accordingly, Ford's petition is hereby granted and Ford is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that Ford no longer controlled at the time it determined that the noncompliance existed. However, the granting of this petition does not relieve vehicle distributors and dealers of the prohibitions on the sale, offer for sale, or introduction or delivery for introduction into interstate commerce of the noncompliant vehicles under their control after Ford notified them that the subject noncompliance existed.

Authority: 49 U.S.C. 30118, 30120: delegations of authority at 49 CFR 1.95 and 501.8.

Jeff Giuseppe,
Acting Director, Office of Vehicle Safety Compliance.

[FR Doc. 2014-08713 Filed 4-16-14; 8:45 am]

BILLING CODE 4910-59-P